DEPARTMENT OF COMMERCE

Foreign-Trade Zones Board

[B-69-2018]

Foreign-Trade Zone (FTZ) 203—Moses Lake, Washington; Authorization of Production Activity; Joyson Safety Systems Acquisition, LLC; (Automotive Airbag Inflators and Propellants); Moses Lake, Washington

On October 30, 2018, Joyson Safety Systems Acquisition, LLC submitted a notification of proposed production activity to the FTZ Board for its facility within Subzone 203A, in Moses Lake, Washington.

The notification was processed in accordance with the regulations of the FTZ Board (15 CFR part 400), including notice in the Federal Register inviting public comment (83 FR 55690, November 7, 2018). On April 8, 2019, the applicant was notified of the FTZ Board's decision that no further review of the activity is warranted at this time. The production activity described in the notification was authorized, subject to the FTZ Act and the FTZ Board's regulations, including Section 400.14.

Dated: December 12, 2019.
Elizabeth Whiteman,
Acting Executive Secretary.

[FR Doc. 2019-27132 Filed 12-16-19; 8:45 am]

BILLING CODE 3510-DS-P